DEPARTMENT OF COMMERCE

Foreign-Trade Zones Board

[Docket 23-2003]

Foreign-Trade Zone 22—Chicago, Illinois, Area Application for Expansion

An application has been submitted to the Foreign-Trade Zones (FTZ) Board (the Board), by the Illinois International Port District, grantee of Foreign-Trade Zone 22, requesting authority to expand its zone to include an additional site in the Chicago, Illinois, area, within the Chicago Customs port of entry. The application was submitted pursuant to the provisions of the Foreign-Trade Zones Act, as amended (19 U.S.C. 81a-81u), and the regulations of the Board (15 CFR Part 400). It was formally filed on May 12, 2003.

FTZ 22 was approved on October 29, 1975 (Board Order 108, 40 FR 51242, 11/4/75) and expanded on April 9, 1987 (Board Order 353, 52 FR 12217, 4/15/87); December 11, 1992 (Board Order 614, 57 FR 61044, 12/23/92); and, November 21, 2000 (Board Order 1127, 65 FR 76218, 12/6/00). The general-purpose zone project currently consists of the following sites: Site 1 (19 acres)—within the Port's 2,250-acre Lake Calumet Harbor terminal facility; Site 2 (578 acres)—industrial park at One Diversatech Drive, Manteno; Site 3 (8 acres)—at 703 Foster Avenue, Bensonville; and, Site 4 (8 acres)—at Gerry Drive and Hansen Court, Wood Dale.

The applicant is now requesting authority to expand the general-purpose zone to include an additional site (Proposed Site 5) in Elwood (Will County). Proposed Site 5 (2,029 acres) is located at the CenterPoint Intermodal Center just west of the Village of Elwood, approximately 2½ miles east of Interstate 55 and approximately 1 mile south of Arsenal Road. The site was formerly the Joliet Arsenal, a U.S. Army ammunition plant, and is currently being developed for commercial use as an intermodal facility and industrial park. The majority of the site is owned by CenterPoint Properties Trust. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099—14th Street NW., Washington, DC 20005; or

2. Submissions via the U.S. Postal Service: Foreign-Trade Zones Board, U.S. Department of Commerce, FCB—Suite 4100W, 1401 Constitution Avenue NW. Washington, DC 20230.

The closing period for their receipt is July 21, 2003. Rebuttal comments in response to material submitted during the foregoing period may be submitted during the subsequent 15-day period to August 4, 2003.

A copy of the application and accompanying exhibits will be available for public inspection at the Office of the Foreign-Trade Zones Board's Executive Secretary at the first address listed above, and at the U.S. Department of Commerce Export Assistance Center, 55 West Monroe Street, Suite 2440, Chicago, Illinois 60603.

Dated: May 12, 2003.
Dennis Puccinelli,
Executive Secretary.

[FR Doc. 03-12637 Filed 5-19-03; 8:45 am]

BILLING CODE 3510-DS-P